DEPARTMENT OF ENERGY

Federal Energy Regulatory Commission

Combined Notice of Filings #1

November 4, 2010.

Take notice that the Commission received the following electric corporate filings:

Docket Numbers: EC11-14-000.

Applicants: Front Range Power Company, LLC.

Description: Application for authorization for disposition of jurisdictional facilities and request for expedited and privileged treatment of Exhibit I re Front Range Power Company.

Filed Date: 10/26/2010.

Accession Number: 20101027-0201.

Comment Date: 5 p.m. Eastern Time on Tuesday, November 16, 2010.

Docket Numbers: EC11-16-000.

Applicants: Cedar Creek II, LLC, Cedar Creek Wind Energy, LLC.

Description: Application of Cedar Creek Wind Energy, LLC, and Cedar Creek II, LLC, for Transaction Approval Per Federal Power Act.

Filed Date: 11/03/2010.

Accession Number: 20101103-5116.

Comment Date: 5 p.m. Eastern Time on Wednesday, November 24, 2010.

Take notice that the Commission received the following exempt wholesale generator filings:

Docket Numbers: EG11-8-000.

Applicants: Cedar Creek II, LLC.

Description: Self-Certification of EWG Status of Cedar Creek II, LLC.

Filed Date: 11/03/2010.

Accession Number: 20101103-5101.

Comment Date: 5 p.m. Eastern Time on Wednesday, November 24, 2010.

Take notice that the Commission received the following electric rate filings:

Docket Numbers: ER98-4336-016; ER00-1814-012; ER99-1435-024.

Applicants: Spokane Energy LLC; Avista Corporation; Avista Turbine Power, Inc.

Description: Avista Corporation's et al., submits Tables 8.1a through 8.1f of the Generation Market Power Analysis revised for the correct format specified in Order 697-A.

Filed Date: 10/29/2010.

Accession Number: 20101101-0007.

Comment Date: 5 p.m. Eastern Time on Friday, November 19, 2010.

Docket Numbers: ER10-2664-001.

Applicants: Southern California Edison Company.

Description: Southern California Edison Company submits tariff filing per 35.17(b): Resubmission of Revised SGIA and SA for FlexEnergy's Lamb Canyon Project to be effective 11/16/2010.

Filed Date: 11/04/2010.

Accession Number: 20101104-5017.

Comment Date: 5 p.m. Eastern Time on Thursday, November 18, 2010.

Docket Numbers: ER10-2815-001.

Applicants: Southern California Edison Company.

Description: Southern California Edison Company submits tariff filing per 35.17(b): Resubmission of Revised City of Banning Wholesale Dist Load IFA for 3rd 33kV Line to be effective 11/22/2010.

Filed Date: 11/04/2010.

Accession Number: 20101104-5018.

Comment Date: 5 p.m. Eastern Time on Friday, November 26, 2010.

Docket Numbers: ER11-25-001.

Applicants: Avista Corporation.

Description: Avista Corporation submits the OATT Service Agreement No. T-1084 to be effective 12/31/9998.

Filed Date: 11/04/2010.

Accession Number: 20101104-5088.

Comment Date: 5 p.m. Eastern Time on Friday, November 26, 2010.

Docket Numbers: ER11-2025-000.

Applicants: Safe Harbor Water Power Corporation.

Description: Safe Harbor Water Power Corporation submits request for a continued extension to 12/31/10 to file its baseline electronic tariffs, pursuant to Order 714.

Filed Date: 11/03/2010.

Accession Number: 20101103-0202.

Comment Date: 5 p.m. Eastern Time on Wednesday, November 24, 2010.

Docket Numbers: ER11-2026-000.

Applicants: KCP&L Greater Missouri Operations Company.

Description: KCP&L Greater Missouri Operations Company submits tariff filing per 35: GMO Order 739 Compliance Filing (Section 23.1) to be effective 10/1/2010.

Filed Date: 11/03/2010.

Accession Number: 20101103-5086.

Comment Date: 5 p.m. Eastern Time on Wednesday, November 24, 2010.

Docket Numbers: ER11-2027-000.

Applicants: PacifiCorp.

Description: PacifiCorp submits tariff filing per 35.13(a)(2)(iii): City of Nephi Vickers POD Construction Agreement to be effective 11/4/2010.

Filed Date: 11/03/2010.

Accession Number: 20101103-5091.

Comment Date: 5 p.m. Eastern Time on Wednesday, November 24, 2010.

Docket Numbers: ER11-2028-000.

Applicants: EDF Industrial Power Services (IL), LLC.

Description: EDF Industrial Power Services (IL), LLC submits tariff filing per 35.13(a)(2)(iii): Market Based Rate to be effective 11/3/2010.

Filed Date: 11/03/2010.

Accession Number: 20101103-5097.

Comment Date: 5 p.m. Eastern Time on Wednesday, November 24, 2010.

Docket Numbers: ER11-2029-000.

Applicants: Cedar Creek II, LLC.

Description: Cedar Creek II, LLC submits tariff filing per 35.12: MBR Application of Cedar Creek II, LLC to be effective 12/16/2010.

Filed Date: 11/03/2010.

Accession Number: 20101103-5105.

Comment Date: 5 p.m. Eastern Time on Wednesday, November 24, 2010.

Docket Numbers: ER11-2030-000.

Applicants: Hinson Power Company, LLC.

Description: Hinson Power Company, LLC submits baseline tariff, Electric Sales Rate Schedule No. 1, to be effective 11/3/2010.

Filed Date: 11/04/2010.

Accession Number: 20101104-5001.

Comment Date: 5 p.m. Eastern Time on Friday, November 26, 2010.

Docket Numbers: ER11-2031-000.

Applicants: Southwestern Public Service Company.

Description: Southwestern Public Service Company submits tariff filing per 35.13(a)(2)(iii): 2010_11_4_Coversheet_612-SPS to be effective 11/1/2010 under ER11-02031-000 Filing Type: 10.

Filed Date: 11/04/2010.

Accession Number: 20101104-5083.

Comment Date: 5 p.m. Eastern Time on Friday, November 26, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-28922 Filed 11-16-10; 8:45 am]

BILLING CODE 6717-01-P